DEPARTMENT OF AGRICULTURE

Agricultural Marketing Service

[Doc. No. TB-05-01]

National Advisory Committee for Tobacco Inspection Services; Open Meeting

AGENCY: Agricultural Marketing Service, USDA.

ACTION: Notice of advisory committee meeting.

SUMMARY: In accordance with the Federal Advisory Committee Act (5 U.S.C. App. II) announcement is made of a forthcoming meeting of the National Advisory Committee for Tobacco Inspection Services.

DATES: The meeting will be held on February 1, 2005, at 9 a.m.

ADDRESSES: The meeting will be held at the Old Town Alexandria Holiday Inn, 480 King Street, Alexandria, Virginia 22314.

FOR FURTHER INFORMATION CONTACT: William O. Coats, Associate Deputy Administrator, Tobacco Programs, AMS, USDA, telephone number (202) 205-0567 or fax (202) 205-0235.

SUPPLEMENTARY INFORMATION: The purpose of the meeting is to elect officers, discuss recent legislation affecting mandatory inspection, and review various regulations issued pursuant to the Tobacco Inspection Act (7 U.S.C. 511 et seq.).

The meeting is open to the public. Persons, other than members who wish to address the Committee at the meeting should contact William O. Coats, Associate Deputy Administrator, Tobacco Programs, AMS, USDA, STOP 0280, 1400 Independence Avenue, SW, Washington, DC 20250-0280, prior to the meeting. Written statements may be submitted to the Committee before, at, or after the meeting. If you need any accommodations to participate in the meeting, please contact the Tobacco Programs at (202) 205-0567 by January 24, 2005, and inform us of your needs.

Dated: January 5, 2005.
A. J. Yates,
Administrator, Agricultural Marketing Service.

[FR Doc. 05-578 Filed 1-11-05; 8:45 am]

BILLING CODE 3410-02-P